DEPARTMENT OF COMMERCE

National Oceanic and Atmospheric Administration

Agency Information Collection Activities; Submission to the Office of Management and Budget (OMB) for Review and Approval; Comment Request; NWS Extreme Heat Social and Behavioral Sciences Research

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 7, 2023.

ADDRESSES: Interested persons are invited to submit written comments to Adrienne Thomas, NOAA PRA Officer, at NOAA.PRA@noaa.gov. Please reference OMB Control Number 0648-XXXX in the subject line of your comments. Do not submit Confidential Business Information or otherwise sensitive or protected information.

FOR FURTHER INFORMATION CONTACT: Requests for additional information or specific questions related to collection activities should be directed to Kimberly McMahon, Public Weather Services Program Manager, DOC/NOAA/NWS/AFS, 1325 East-West Highway, Silver Spring, MD 20910, 301-427-9692, kimberly.mcmahon@noaa.gov.

SUPPLEMENTARY INFORMATION:

I. Abstract

This is a request for a new collection of information.

The data collection is sponsored by DOC/NOAA/National Weather Service (NWS)/Analyze, Forecast, and Support Office (AFSO). Heat continues to be the leading weather-related killer with the Centers for Disease Control and Prevention (CDC) estimating more than 700 deaths and 9,000 hospitalizations a year resulting from heat exposure. In particular, historically underserved communities, as defined and highlighted in Executive Order 13985, Advancing Racial Equity and Support for Underserved Communities Through the Federal Government, typically experience higher rates of poverty, homelessness, disabilities, and language barriers, which increase their vulnerability to heat impacts. The NWS has articulated a priority to enhance services for these historically underinvested and underserved communities that are at greater risk for experiencing negative health impacts related to extreme heat.

As heat-related impacts continue to increase, the NWS must rise to the challenge and provide the most equitable and informed heat products and services to mitigate loss of life and property. Modeling and forecasting capabilities have continued to expand, but even the most accurate and up-to-date forecasts must be paired with Social, Behavioral, and Economic Sciences (SBES) to ensure that NWS can meet its mission of protecting life and property and enhancing the national economy. In addition, this study supports the Weather Research and Forecasting Innovation Act of 2017, which calls on NOAA to “improve the understanding of how the public receives, interprets, and responds to warnings and forecasts of high impact weather events that endanger life and property.”

While NWS continues to enhance its heat-related products and services, there is still significant room for improvement, particularly in bridging the gap between physical science information and how it is received and acted upon by our public and partners. As such, this study will focus on expanding our knowledge of public perception and understanding of heat to inform and improve NWS' national and local level heat communication and messaging. This will include an initial literature review to draw out known best practices and identify research gaps to inform a mixed methods approach including a series of remote focus groups and a large-scale public survey. The focus groups are intended to explore how pertinent public, nonprofit, corporate, and academic stakeholders message heat information and resources, particularly for underserved communities. The quantitative survey will use a representative sample of the U.S. population and focus on more broadly conceptualizing public perception and understanding of heat.

II. Method of Collection

Information will be collected via mixed methods approach of qualitative focus groups and a quantitative survey.

The focus groups will consist of six remote groups lasting 90-minutes. Each group will consist of six to eight participants for a total of up to 48 participants. Participants will include a mix of public, nonprofit, corporate, and academic stakeholders who have a role in messaging and assisting with behavior change to improve extreme heat outcomes. Specific focus group questions will provide information about how NWS can effectively reach underserved groups with its extreme heat messaging including how to reach underserved groups, what messaging spurs action, and what communication channels are most effective.

The 15-minute web survey will consist of 1,000 nationally distributed participants from the general public. Respondents include adults who reside in the United States, recruited through a non-probability panel. Specific survey questions will determine how members of the US public receive, comprehend, and respond to extreme heat messages.

III. Data

OMB Control Number: 0648-XXXX.

Form Number(s): None.

Type of Review: Regular (New information collection).

Affected Public: Individuals or households; Business or other for-profit organizations; Not-for-profit institutions; Federal, State, local, or Tribal government; academic institutions.

Estimated Number of Respondents: 1,048.

Estimated Time per Response:

• Focus Group: 90 minutes.

• Survey: 15 minutes.

Estimated Total Annual Burden Hours: 322.

Estimated Total Annual Cost to Public: None.

Respondent's Obligation: Voluntary.

Legal Authority: 15 U.S.C. chapter 111, Weather Research and Forecasting Information.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2023-00051 Filed 1-5-23; 8:45 am]

BILLING CODE 3510-KE-P